DEPARTMENT OF ENERGY

Federal Energy Regulatory Commission

[Docket No. ER13-2108-000]

Supplemental Notice for Staff Technical Conference; PJM Interconnection, L.L.C.

As announced in the Notice of Technical Conference issued on October 11, 2013, there will be a staff technical conference in the above captioned proceeding on November 13, 2013 beginning at 9 a.m. at the Commission's headquarters, located at 888 First Street NE., Washington, DC 20426. Please note that the room has changed and will be posted on the day of the conference. The conference will consist of one panel composed of representatives from PJM Interconnection, LLC; Comverge, Inc.; and PSEG Energy Resources and Trade, LLC. There will also be an opportunity for comment or questions from other parties.

FERC conferences are accessible under section 508 of the Rehabilitation Act of 1973. For accessibility accommodations please send an email to accessibility@ferc.gov or call toll free (866) 208-3372 (voice) or (202) 502-8659 (TTY), or send a fax to (202) 208-2106 with the required accommodations.

Parties will be provided an opportunity to file comments after the conference. Comments will be due November 27, 2013. Reply comments will be due December 4, 2013.

Parties seeking additional information regarding this conference should contact Tristan Cohen at Tristan.Cohen@ferc.gov or (202) 502-6598.

Dated: October 31, 2013.
Kimberly D. Bose,
Secretary.

[FR Doc. 2013-26656 Filed 11-6-13; 8:45 am]

BILLING CODE 6717-01-P